NATIONAL LABOR RELATIONS BOARD

Appointments of Individuals To Serve as Members of Performance Review Boards

5 USC 4314(c)(4) requires that the appointments of individuals to serve as members of performance review boards be published in the Federal Register. Therefore, in compliance with this requirement, notice is hereby given that the individuals whose names and position titles appear below have been appointed to serve as members of performance review boards in the National Labor Relations Board for the rating year beginning October 1, 2009 and ending September 30, 2010.

Name and Title

William B. Cowen—Solicitor.

Kathleen A. Nixon—Deputy Chief Counsel to Board Member.

Gary W. Shinners—Deputy Executive Secretary.

Arlene Fine Klepper—Executive Assistant to the Chairman.

Barry J. Kearney—Associate General Counsel, Division of Advice.

Richard A. Siegel—Associate General Counsel, Division of Operations Management.

Gloria Joseph—Director of Administration, Division of Administration.

John H. Ferguson—Associate General Counsel, Division of Enforcement Litigation.

Washington, DC.
By Direction of the Board
Dated: November 12, 2010.
Lester A. Heltzer,
Executive Secretary.

[FR Doc. 2010-28943 Filed 11-16-10; 8:45 am]

BILLING CODE P